COMMISSION ON CIVIL RIGHTS

Agenda and Notice of Public Meeting of the Florida Advisory Committee

Notice is hereby given, pursuant to the provisions of the rules and regulations of the U.S. Commission on Civil Rights, that a planning meeting of the Florida Advisory Committee to the Commission will convene at 4 p.m. and adjourn at 6:30 p.m. on September 12, 2006, at the Marriott Orlando Airport Hotel, Orlando, Florida, and will reconvene at the same location at 8:30 a.m. and adjourn at 11:30 a.m. on September 13, 2006. The purpose of the meeting is to give Committee members an orientation to their duties and responsibilities, discuss the Committee's report on migrant education, and consider a project for 2007.

Persons desiring additional information should contact Peter Minarik, PhD., Regional Director, Southern Regional Office, U.S. Commission on Civil Rights, 404-562-7000. Hearing-impaired individuals may obtain additional information by calling TDD 202-376-8116, and hearing-impaired persons who will attend the meeting and require the services of a sign language interpreter should contact the Regional Office at least ten (10) working days before the scheduled date of the meeting.

The meeting will be conducted pursuant to the provisions of the rules and regulations of the Commission.

Dated at Washington, DC, July 19, 2006.
Ivy Davis,
Acting Chief, Regional Programs Coordination Unit.

[FR Doc. E6-11842 Filed 7-24-06; 8:45 am]

BILLING CODE 6335-01-P